RAILROAD RETIREMENT BOARD

Notification of Meeting

The Railroad Retirement board heredby gives notice that the Board will meet at 9 a.m., December 29, 2005, in the Board Room on the 8th floor of the agency's headquarters building located at 844 N. Rush Street, Chicago, Illinois. A majority of the Board, by recorded vote, has determined that agency business requires the scheduling of this meeting with less than one week notice. The subject to be addressed at this meeting is a discussion of issues relating to the pending procurement, the section of a contractor and the request for dunding approval to implement Phase I of the Field Office Study.

The entire meeting will be closed to the public. The person to contact for more information is Beatrice Ezerski, Secretary to the Board, Phone No. 312-751-4920.

Dated: December 28, 2005.
Beatrice Ezerski,
Secretary to the Board.

[FR Doc. 06-14 Filed 1-3-06; 8:45 am]

BILLING CODE 7901-05-M